DEPARTMENT OF ENERGY

Federal Energy Regulatory Commission

[Docket No. CP22-161-000]

Gulf South Pipeline Company, LLC; Notice of Schedule for the Preparation of an Environmental Assessment for the Index 130 MS River Replacement Project

On April 8, 2022, Gulf South Pipeline Company, LLC (Gulf South) filed an application in Docket No. CP22-161-000 requesting a Certificate of Public Convenience and Necessity pursuant to Sections 7(b) and 7(c) of the Natural Gas Act to replace its existing natural gas pipeline facilities under the Mississippi River. The proposed project is known as the Index 130 MS River Replacement Project (Project) and would involve the replacement of Gulf South's existing pipelines in Ascension Parish, Louisiana. The purpose of the Project is to accommodate the Mississippi River Ship Channel Deepening Project, planned by the U.S. Army Corps of Engineers, in partnership with the Louisiana Department of Transportation and Development.

On April 25, 2022, the Commission issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—September 26, 2022

90-day Federal Authorization Decision Deadline ²—December 27, 2022

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

To accommodate the Mississippi River Ship Channel Deepening Project, Gulf South proposes to replace via horizontal directional drill its Mississippi River Crossing, consisting of three 20-inch-diameter pipelines with approximately 5,750 feet of two 30-inch-diameter pipelines under the Mississippi River and install auxiliary and appurtenant equipment. Gulf South requests authorization to abandon three segments of the 20-inch-diameter Mississippi River Crossing pipeline by removal (combined total of approx. 9,455 feet) and the remaining pipeline in place (combined total of approx. 7,380 feet). Gulf South also proposes to reconfigure its existing mainline valve yards on the west and east banks of the Mississippi River—the Modeste Valve Site and Sugar Bowl Pig Trap/Valve Site, respectively. Where Gulf South's Index 804 connects to the Index 130 and Index 130L, the proposed reconfiguration will require expanding Index 804 by approximately 730 feet of 6-inch-diameter pipeline to the new tie-in location, and Gulf South proposes to remove the existing Sugar Bowl Pig Trap/Valve site.

Background

On May 18, 2022, the Commission issued a Notice of Scoping Period Requesting Comments on Environmental Issues for the Proposed Index 130 MS River Replacement Project (Notice of Scoping). The Notice of Scoping was sent to affected landowners; federal, state, and local government agencies; elected officials; environmental and public interest groups; Native American tribes; other interested parties; and local libraries and newspapers. In response to the Notice of Scoping, the Commission received a comment from the Louisiana Department of Transportation and Development, noting that Gulf South is responsible for obtaining all local, state, or federal permits required for the Project. The Commission also received comments from IMTT-Geismar, a landowner affected by the existing Gulf South facilities and the proposed Project. IMTT-Geismar states concern that the proposed Project will impact the landowner's current facilities and certain ongoing construction expansion plans. Comments were also filed by the U.S. Environmental Protection Agency, providing suggestions on Commission staff's analysis of the Project's purpose and need, environmental justice, climate change, greenhouse gases, wetlands, and air quality.

Any substantive comment filed in response to the Notice of Scoping will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-161), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: June 21, 2022.
Kimberly D. Bose,
Secretary.

[FR Doc. 2022-13638 Filed 6-24-22; 8:45 am]

BILLING CODE 6717-01-P